Executive Order 13225 of September 28, 2001

Continuance of Certain Federal Advisory Committees

By the authority vested in me as President by the Constitution and the laws of the United States of America, and in accordance with the provisions of the Federal Advisory Committee Act, as amended (5 U.S.C. App.), it is hereby ordered as follows:

Section 1. Each advisory committee listed below is continued until September 30, 2003.

(a) Committee for the Preservation of the White House; Executive Order 11145, as amended (Department of the Interior).

(b) Federal Advisory Council on Occupational Safety and Health; Executive Order 12196, as amended (Department of Labor).

(c) President's Advisory Commission on Educational Excellence for Hispanic Americans; Executive Order 12900 (Department of Education).

(d) President's Board of Advisors on Historically Black Colleges and Universities; Executive Order 13021, as amended, (Department of Education).

(e) President's Board of Advisors on Tribal Colleges and Universities; Executive Order 13021, as amended (Department of Education).

(f) President's Commission on White House Fellowships; Executive Order 11183, as amended (Office of Personnel Management).

(g) President's Committee on the Arts and the Humanities; Executive Order 12367, as amended (National Endowment for the Arts).

(h) President's Committee on the International Labor Organization; Executive Order 12216, as amended (Department of Labor).

(i) President's Committee on the National Medal of Science; Executive Order 11287, as amended (National Science Foundation).

(j) President's Committee on Mental Retardation; Executive Order 12994 (Department of Health and Human Services).

(k) President's Council on Physical Fitness and Sports; Executive Order 12345, as amended (Department of Health and Human Services).

(l) President's Export Council; Executive Order 12131, as amended (Department of Commerce).

(m) President's National Security Telecommunications Advisory Committee; Executive Order 12382, as amended (Department of Defense).

(n) Trade and Environment Policy Advisory Committee; Executive Order 12905 (Office of the United States Trade Representative).

Sec. 2. Notwithstanding the provisions of any other Executive Order, the functions of the President under the Federal Advisory Committee Act that are applicable to the committees listed in section 1 of this order shall be performed by the head of the department or agency designated after each committee, in accordance with the guidelines and procedures established by the Administrator of General Services.

Sec. 3. The following Executive Orders, or sections thereof, which established committees that have terminated and whose work is completed, are revoked:

(a) Sections 3 and 4 of Executive Order 13134 pertaining to the establishment and administration of the Advisory Committee on Biobased Products and Bioenergy, superseded by the Biomass Research and Development Technical Advisory Committee established pursuant to section 306 of the Biomass Research and Development Act of 2000 (Title III of Public Law 106-224);

(b) Executive Order 13080, establishing the American Heritage Rivers Initiative Advisory Committee;

(c) Executive Order 13090, as amended by Executive Order 13136, establishing the President's Commission on the Celebration of Women in American History;

(d) Executive Order 13168, establishing the President's Commission on Improving Economic Opportunity in Communities Dependent on Tobacco Production While Protecting Public Health; and

(e) Executive Order 13075, establishing the Special Oversight Board for Department of Defense Investigations of Gulf War Chemical and Biological Incidents.

Sec. 4. Sections 1 through 4 of Executive Order 13138 are superseded.

Sec. 5. This order shall be effective September 30, 2001.

B

THE WHITE HOUSE,

September 28, 2001.

[FR Doc. 01-24917

Filed 10-2-01; 8:45 am]

Billing code 3195-01-P